DEPARTMENT OF COMMERCE

National Oceanic and Atmospheric Administration

[I.D. 020107C]

Endangered Species; File No. 1549

AGENCY: National Marine Fisheries Service (NMFS), National Oceanic and Atmospheric Administration (NOAA), Commerce.

ACTION: Notice; issuance of permit.

SUMMARY: Notice is hereby given that Dr. Boyd Kynard, (Permit Holder and Principal Investigator), S. O. Conte Anadromous Fish Research Center (USGS-BRD); Box 796, One Migratory Way; Turner Falls, Massachusetts 01376, has been issued a permit to conduct scientific research on shortnose sturgeon (Acipenser brevirostrum).

ADDRESSES: The permit and related documents are available for review upon written request or by appointment in the following offices:

Permits, Conservation and Education Division, Office of Protected Resources, NMFS, 1315 East-West Highway, Room 13705, Silver Spring, MD 20910; phone (301)713-2289; fax (301)713-0376; and

Northeast Region, NMFS, One Blackburn Drive, Gloucester, MA 01930-2298; phone (978)281-9328; fax (978)281-9394.

FOR FURTHER INFORMATION CONTACT: Malcolm Mohead or Carrie Hubard, (301)713-2289.

SUPPLEMENTARY INFORMATION: On November 10, 2005, notice was published in the Federal Register (70 FR 68398) that a request for a scientific research permit to take shortnose sturgeon had been submitted by Dr. Boyd Kynard. The requested permit has been issued under the authority of the Endangered Species Act of 1973, as amended (ESA; 16 U.S.C. 1531 et seq.) and the regulations governing the taking, importing, and exporting of endangered and threatened species (50 CFR parts 222-226).

Dr. Boyd Kynard, of the S.O. Conte Anadromous Fish Research Center, is permitted to conduct scientific research to determine up and downstream migrations, habitat use, spawning periodicity, seasonal movements, and growth of shortnose sturgeon in the Connecticut River (from Agawan to Montague, MA), and in the Merrimack River (at Haverhill, MA), and in the Androscoggin River (ME). In addition, Dr. Kynard is authorized to take a total of 1,000 fertilized eggs annually from each of the following rivers: Kennebec River and Androscoggin River (ME); Merrimack River (MA); Hudson River (NY); Delaware River (DE); Potomac River (MD); and Santee-Cooper River (SC). The permit is authorized for a duration of 5 years.

Issuance of this permit, as required by the ESA, was based on a finding that such permit (1) was applied for in good faith, (2) will not operate to the disadvantage of the endangered species which is the subject of this permit, and (3) is consistent with the purposes and policies set forth in section 2 of the ESA.

Dated: February 2, 2007.
P. Michael Payne,
Chief, Permits, Conservation and Education Division, Office of Protected Resources, National Marine Fisheries Service.

[FR Doc. E7-2043 Filed 2-6-07; 8:45 am]

BILLING CODE 3510-22-S